DEPARTMENT OF HEALTH AND HUMAN SERVICES

Substance Abuse and Mental Health Services Administration

Center for Substance Abuse Treatment; Amendment of Meeting Notice

Public notice was given in the Federal Register on August 29, 2001, Volume 66, Number 168, page 45689 that the CSAT National Advisory Council would be meeting September 12-13, 2001 at the Bethesda Hyatt Hotel, One Bethesda Metro, Bethesda, Maryland. Due to the emergency situation in the Nation, the meeting was cancelled.

Information regarding the next meeting of the Council may be obtained from:

FOR FURTHER INFORMATION CONTACT: Cynthia Graham, 5600 Fishers Lane, RW II, Ste 618, Rockville, MD 20857, Telephone: (301) 443-8923; FAX: (301) 480-6077. E-mail: cgraham@samhsa.gov.

Dated: September 19, 2001.
Toian Vaughn,
Committee Management Officer, Substance Abuse and Mental Health Services Administration.

[FR Doc. 01-23983 Filed 9-24-01; 8:45 am]

BILLING CODE 4162-20-P